DEPARTMENT OF THE INTERIOR

Fish and Wildlife Service

[FWS-R4-ES-2017-N004; FXES11140400000-189-FF04E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given in ADDRESSES by March 22, 2018.

ADDRESSES:

Reviewing Documents: Documents and other information submitted with the applications are available for review, subject to the requirements of the Privacy Act and Freedom of Information Act, by any party who submits a written request for a copy of such documents to the following office within 30 days of the date of publication of this notice (see DATES): U.S. Fish and Wildlife Service Regional Office, Ecological Services, 1875 Century Boulevard, Atlanta, GA 30345 (Attn: Karen Marlowe, Permit Coordinator).

Submitting Comments: If you wish to comment, you may submit comments by any one of the following methods:

• U.S. mail or hand-delivery: U.S. Fish and Wildlife Service's Regional Office (see above).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone) or 404-679-7081 (fax).

SUPPLEMENTARY INFORMATION: We invite review and comment from local, State, and Federal agencies and the public on applications we have received for permits to conduct certain activities with endangered and threatened species under section 10(a)(1)(A) of the Endangered Species Act of 1973, as amended (16 U.S.C. 1531 et seq.; ESA), and our regulations in the Code of Federal Regulations (CFR) at 50 CFR part 17. With some exceptions, the ESA prohibits activities with listed species unless a Federal permit is issued that allows such activities. The ESA requires that we invite public comment before issuing these permits.

Public Availability of Comments

Before including your address, phone number, email address, or other personal identifying information in your comment, you should be aware that your entire comment—including your personal identifying information—may be made publicly available at any time. While you can ask us in your comment to withhold your personal identifying information from public review, we cannot guarantee that we will be able to do so.

Permit Applications
Permit application No. | Applicant | Species/numbers | Location | Activity | Type of take | Permit action
TE 63577A-2 | Mammoth Cave National Park, Mammoth Cave, KY | Gray bat (Myotis grisescens), Indiana bat (M. sodalis), northern long-eared bat (M. septentrionalis) | Alabama, Georgia, Kentucky, Mississippi, North Carolina, South Carolina, Tennessee, and Virginia | Presence/absence surveys | Enter hibernacula, salvage dead bats, capture with mist nets or harp traps, handle, identify, collect hair samples, band, radio-tag, PIT-tag, light tag, and wing-punch | Renewal and Amendment.
TE 57873C-0 | Arkansas Natural Heritage Commission, Little Rock, AR | Yellowcheek darter (Etheostoma moorei) | Arkansas | Presence/absence surveys | Capture, handle, identify, weigh, measure, and release | New.
TE 102292-13 | Jeremy L. Jackson, Richmond, KY | Gray bat (Myotis grisescens), Indiana bat (M. sodalis), northern long-eared bat (M. septentrionalis), and Virginia big-eared bat (Corynorhinus townsendii virginianus) | Alabama, Arkansas, Connecticut, Delaware, Florida, Georgia, Illinois, Indiana, Iowa, Kansas, Kentucky, Louisiana, Maine, Massachusetts, Michigan, Minnesota, Mississippi, Missouri, Montana, Nebraska, New Hampshire, New Jersey, New York, North Carolina, North Dakota, Ohio, Oklahoma, Pennsylvania, Rhode Island, South Carolina, South Dakota, Tennessee, Texas, Vermont, Virginia, West Virginia, Wisconsin, and Wyoming | Presence/absence surveys, studies to document habitat use, and population monitoring | Enter hibernacula or maternity roost caves, salvage dead bats, capture with mist nets or harp traps, handle, identify, collect hair samples, band, radio-tag, light-tag, and wing-punch | Renewal.
TE 066980-5 | J.W. Jones Ecological Research Center, Newton, GA | Red-cockaded woodpecker (Picoides borealis) | Georgia | Population management and monitoring | Capture, band, construct, and monitor artificial nest cavities and restrictors, translocate, and buccal swab | Renewal.
TE 56749B-2 | Patrick R. Moore, Harrison, AR | Gray bat (Myotis grisescens), Indiana bat (M. sodalis), northern long-eared bat (M. septentrionalis), Ozark big-eared bats (Corynorhinus townsendii ingens), and Virginia big-eared bats (C. t. virginianus) | Alabama, Arkansas, Delaware, Florida, Georgia, Illinois, Indiana, Iowa, Kansas, Kentucky, Louisiana, Maryland, Michigan, Minnesota, Mississippi, Missouri, New Jersey, New York, North Carolina, Ohio, Oklahoma, Pennsylvania, South Carolina, Tennessee, Texas, Vermont, Virginia, West Virginia, and Wisconsin | Presence/absence surveys, studies to document habitat use, population monitoring, and to evaluate potential impacts of white-nose syndrome or other threats | Enter hibernacula or maternity roost caves, salvage dead bats, capture with mist nets or harp traps, handle, identify, collect hair samples, band, radio tag, light-tag, swab, and wing-punch | Renewal.
TE 206872-9 | Joy M. O'Keefe, Indiana State University, Terre Haute, IN | Gray bat (Myotis grisescens), Indiana bat (M. sodalis), northern long-eared bat (M. septentrionalis), and Virginia big-eared bat (Corynorhinus townsendii virginianus) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys, studies to document habitat use, population monitoring, and to evaluate potential impacts of white-nose syndrome or other threats | Enter hibernacula or maternity roost caves, salvage dead bats, capture with mist nets or harp traps, handle, identify, collect hair samples, band, radio tag, light-tag, swab, fungal lift tape, and wing-punch | Renewal.
TE 61573C-0 | University of Southern Mississippi, Hattiesburg, MS | Louisiana quillwort (Isoetes louisianensis) | DeSoto National Forest, Mississippi | Anatomic and genetic studies | Collect leaf fragments, root tips, megaspores, and a whole individual voucher specimen | New.
TE 64393C-0 | Vanesse Hangen Brustlin, Inc., South Burlington, VT | Florida bonneted bat (Eumops floridanus), gray bat (Myotis grisescens), Indiana bat (M. sodalis), northern long-eared bat (M. septentrionalis), Virginia big-eared bat (Corynorhinus townsendii virginianus) | Alabama, Arkansas, Connecticut, Delaware, District of Columbia, Florida, Georgia, Illinois, Indiana, Iowa, Kentucky, Louisiana, Maine, Maryland, Massachusetts, Michigan, Minnesota, Mississippi, Missouri, New Hampshire, New Jersey, New York, North Carolina, Ohio, Pennsylvania, Rhode Island, South Carolina, Tennessee, Vermont, Virginia, West Virginia, and Wisconsin | Presence/absence surveys | Capture with mist nets, handle, identify, band, and radio-tag | New.
TE 94704A-2 | Dorothy C. Brown, Woodstock, GA | Gray bat (Myotis grisescens), Indiana bat (M. sodalis), northern long-eared bat (M. septentrionalis), Virginia big-eared bat (Corynorhinus townsendii virginianus), Carolina northern flying squirrel (Glaucomys sabrinus coloratus), and bog turtle (Clemmys muhlenbergii) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys, white-nose syndrome and genetic research, studies to document habitat use, and population monitoring | Bats: Enter hibernacula or maternity roost caves, salvage, capture with mist nets or harp traps, handle, identify, collect hair samples, band, pit-tag, radio-tag, light-tag, wing-punch, and swab for white-nose syndrome testing; Carolina northern flying squirrel: Capture, handle, ear-tag, pit-tag, radio-tag, collect fur and tissue samples, and conduct den surveys; Bog turtle: Capture, mark, pit-tag, and radio-tag | Renewal.
TE 56746B-3 | Joseph S. Johnson, Ohio University, Athens, OH | Gray bat (Myotis grisescens), Indiana bat (M. sodalis), and northern long-eared bat (M. septentrionalis) | Alabama, Ohio, and Pennsylvania | Presence/absence surveys, studies to examine the impact of fire management and forest thinning on these bat species, and fall migration studies | Capture with mist nets, handle, identify, band, nano tag, radio-tag, and wing-punch | Renewal and Amendment.
TE 64767C-0 | John H. Collins, Columbia, SC | Red-cockaded woodpecker (Picoides borealis) | Florida, Georgia, North Carolina, and South Carolina | Population management and monitoring | Capture, band, construct, install, and monitor artificial nest cavities and restrictors, and translocate | New.
TE 37900B-1 | Sarah A. Lauerman, Gainesville, FL | Red-cockaded woodpecker (Picoides borealis) | Osceola National Forest, Florida | Population management and monitoring | Capture, band, monitor nest cavities, and translocate | Renewal.
TE 94728A-1 | Environmental Consulting Operations, Inc., Benton, AR | American burying beetle (Nicrophorus americanus) | Arkansas | Presence/absence surveys | Trap and release | Renewal.
TE 48579B-4 | Ecological Solutions, Inc., Roswell, GA | Gray bat (Myotis grisescens), Indiana bat (M. sodalis), and northern long-eared bat (M. septentrionalis) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys, studies to document habitat use, population monitoring, and white-nose syndrome surveillance | Enter hibernacula or maternity roost caves, salvage dead bats, capture with mist nets or harp traps, handle, identify, collect hair samples, band, radio-tag, light-tag, swab, and wing-punch | Renewal.
TE 80381A-1 | Department of Defense (Army), Fort Campbell, KY | Gray bat (Myotis grisescens), Indiana bat (M. sodalis), and northern long-eared bat (M. septentrionalis) | Fort Campbell, Kentucky | Presence/absence surveys, studies to document habitat use, and population monitoring | Enter hibernacula or maternity roost caves, capture with mist nets, band, and radio-tag | Renewal.

Authority

We provide this notice under section 10(c) of the Act.

Leopoldo Miranda,
Assistant Regional Director, Ecological Services, Southeast Region.

[FR Doc. 2018-03302 Filed 2-16-18; 8:45 am]

BILLING CODE 4333-15-P